DEPARTMENT OF AGRICULTURE

Animal and Plant Health Inspection Service

7 CFR Part 301

[Docket No. APHIS-2007-0114]

Imported Fire Ant; Additions to the List of Quarantined Areas

AGENCY: Animal and Plant Health Inspection Service, USDA.

ACTION: Interim rule and request for comments.

SUMMARY: We are amending the imported fire ant regulations by designating as quarantined areas all or portions of 2 counties in Arkansas, 3 in North Carolina, and 3 in Tennessee, by expanding the quarantined area in 1 county in Arkansas and 15 in Tennessee, and by designating the entire State of South Carolina as a quarantined area. As a result of this action, the interstate movement of regulated articles from those areas will be restricted. This action is necessary to prevent the artificial spread of imported fire ant to noninfested areas of the United States.

DATES: This interim rule is effective October 25, 2007. We will consider all comments that we receive on or before December 24, 2007.

ADDRESSES: You may submit comments by either of the following methods:

• Federal eRulemaking Portal: Go to http://www.regulations.gov, select “Animal and Plant Health Inspection Service” from the agency drop-down menu, then click “Submit.” In the Docket ID column, select APHIS-2007-0114 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0114, Regulatory Analysis and Development, PPD, APHIS, Station 3A-03.8, 4700 River Road Unit 118, Riverdale, MD 20737-1238. Please state that your comment refers to Docket No. APHIS-2007-0114.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Charles L. Brown, Imported Fire Ant Quarantine Program Manager, Pest Detection and Management Programs, PPQ, APHIS, 4700 River Road Unit 134, Riverdale, MD 20737-1236; (301) 734-4838.

SUPPLEMENTARY INFORMATION:

Background

The imported fire ant regulations (contained in 7 CFR 301.81 through 301.81-10 and referred to below as the regulations) quarantine infested States or infested areas within States and restrict the interstate movement of regulated articles to prevent the artificial spread of the imported fire ant.

The imported fire ant (Solenopsis invicta Buren, Solenopsis richteri Forel, and hybrids of these species) is an aggressive, stinging insect that, in large numbers, can seriously injure and even kill livestock, pets, and humans. The imported fire ant, which is not native to the United States, feeds on crops and builds large, hard mounds that damage farm and field machinery. The regulations are intended to prevent the imported fire ant from spreading throughout its ecological range within the country.

The regulations in § 301.81-3 provide that the Administrator of the Animal and Plant Health Inspection Service (APHIS) will list as a quarantined area each State, or each portion of a State, that is infested with the imported fire ant. The Administrator will designate less than an entire State as a quarantined area only under the following conditions: (1) The State has adopted and is enforcing restrictions on the intrastate movement of the regulated articles listed in § 301.81-2 that are equivalent to the interstate movement restrictions imposed by the regulations; and (2) designating less than the entire State will prevent the spread of the imported fire ant. The Administrator may include uninfested acreage within a quarantined area due to its proximity to an infestation or its inseparability from an infested locality for quarantine purposes.

In § 301.81-3, paragraph (e) lists quarantined areas. We are amending § 301.81-3(e) by:

• Adding all of Lonoke and Yell Counties, AR, to the quarantined area;

• Expanding the quarantined area in Faulkner County, AR, to include the entirety of the county;

• Adding portions of Iredell, Lincoln, and Rutherford Counties, NC, to the list of quarantined areas;

• Expanding the quarantined areas in Cherokee, Greenville, and Spartanburg Counties, SC, to include the entirety of each county, with the result that the entire State of South Carolina is now designated as a quarantined area;

• Adding portions of Crockett, Morgan, and Warren Counties, TN, to the list of quarantined areas;

• Expanding the quarantined areas in Anderson, Coffee, Cumberland, Haywood, Knox, and Williamson Counties, TN; and

• Expanding the quarantined areas in Bedford, Benton, Bledsoe, Blount, Carroll, Grundy, Hickman, Rutherford, and Van Buren Counties, TN, to include the entirety of each county.

We are taking these actions because recent surveys conducted by APHIS and State and county agencies revealed that the imported fire ant has spread to these areas. See the regulatory text at the end of this document for specific descriptions of the new and revised quarantined areas.

Emergency Action

This rulemaking is necessary on an emergency basis to prevent the spread of imported fire ant into noninfested areas of the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

We are amending the imported fire ant regulations by designating as quarantined areas all or portions of 2 counties in Arkansas, 3 in North Carolina, and 3 in Tennessee, by expanding the quarantined area in 1 county in Arkansas and 15 in Tennessee, and by designating the entire State of South Carolina as a quarantined area. We are taking this action because surveys conducted by APHIS and State and county agencies revealed that imported fire ant has spread to these areas. Agricultural activities in these imported fire ant-infested areas are at risk due to the potential of imported fire ants to directly or indirectly damage crops and agricultural machinery and harm livestock.

This interim rule will affect businesses such as nurseries, landscaping operations, and timber companies that are located within the newly expanded quarantined areas and that transport regulated articles interstate.

Table 1 summarizes the 2002 Census of Agriculture data according to three commodity groups that will be affected by the interim rule. These commodity groups are: (1) Nursery, greenhouse, floriculture, and sod; ¹ (2) other crops and hay; ² and (3) cut Christmas trees and short rotation woody crops.

¹ In the 2002 Census, data include sales of bedding plants, bulbs, cut flowers, flower seeds, foliage plants, mushrooms, nursery potted plants, shrubbery, nursery stock, live Christmas trees, tobacco transplants, sod, etc.

² In the 2002 Census, data are for the total market value of all crops not categorized elsewhere. This includes crops such as grass seed, hay and grass silage, haylage, greenchop, hops, maple syrup, mint for oil, ginseng root, peanuts, sugarcane, sugar beets, etc.

Since no clear-cut method exists to disaggregate these commodity groups to the specific imported fire ant-regulated articles, the entirety of these commodity groups is used to approximate the number and size of the entities that may be affected by the interim rule.

In 2002, there were 1,193 nurseries, greenhouses, floriculture producers, and sod producers, 4,098 producers of other crops and hay, and 98 producers of cut Christmas trees and short rotation woody crops in the affected counties. Sales ³ of all agricultural products sold in the counties were more than $1 billion in 2002, of which about $172 million can be attributed to the three commodity groups affected by the quarantine restrictions imposed by this rule.

³ The value of sales represents the gross market value before taxes and production expenses of all agricultural products sold or removed from the place in 2002 regardless of who received the payment.

Table 1.—Summary of Three Commodity Groups in the Affected Counties
Number of affected counties | Nursery, greenhouse, floriculture, and sod: Number of farms | Nursery, greenhouse, floriculture, and sod: Sales ($1,000) | Other crops and hay: Number of farms | Other crops and hay: Sales ($1,000) | Cut-Christmas trees and short rotation woody crops: Number of farms | Cut-Christmas trees and short rotation woody crops: Sales ($1,000) | Subtotal of the commodity groups affected by the quarantine: Number of farms | Subtotal of the commodity groups affected by the quarantine: Sales ($1,000) | All agricultural products: Number of farms | All agricultural products: Sales ($1,000)
3 (AR) | 15 | 1,366 | 399 | 3,095 | 3 |  | 417 | 4,461 | 2,923 | 231,180
3 (NC) | 75 | 3,701 | 450 | 1,912 | 7 | 27 | 532 | 5,640 | 2,533 | 172,680
3 (SC) | 130 | 18,946 | 399 | 1,749 | 18 | 54 | 547 | 20,749 | 2,751 | 67,410
18 (TN) | 973 | 131,192 | 2,850 | 9,001 | 70 | 593 | 3,893 | 140,786 | 17,046 | 538,125
27 (total) | 1,193 | 155,205 | 4,098 | 15,757 | 98 | 7,439 | 5,389 | 171,636 | 25,253 | 1,009,412
Source: USDA, NASS, 2002 Census of Agriculture, State and County Level Data. Table 2. Market Value of Agricultural Products Sold Including Direct and Organic in 2002.

Table 2 summarizes the percentage shares of sales and number of farms for those 3 commodity groups relative to the total agricultural product sales and number of farms in the 27 counties. Sales shares of nursery, greenhouse, floriculture, and sod in the newly quarantined counties of South Carolina and Tennessee are substantially higher (28 percent and 24 percent, respectively) than in the newly quarantined counties in Arkansas and North Carolina (less than 1 percent and 2 percent, respectively). An average of 16 percent of farms in the affected counties sell other crops and hay, but these products comprise less than 2 percent of all agricultural products sold in these counties. Overall, based on 2002 Census of Agriculture data, 21 percent of the farms (5,389 out of 25,253 farms) and 17 percent of agricultural product sales in the 27 counties may be affected by this interim rule.

Table 2.—Percentage Shares of Three Commodity Groups in the Affected Counties
Number of counties | Nursery, greenhouse, floriculture, and sod: Number of farms (percent) | Nursery, greenhouse, floriculture, and sod: Sales (percent) | Other crops and hay: Number of farms (percent) | Other crops and hay: Sales (percent) | Cut-Christmas trees and short rotation woody crops: Number of farms (percent) | Cut-Christmas trees and short rotation woody crops: Sales (percent) | Sum of three affected commodity groups by the quarantine: Number of farms (percent) | Sum of three affected commodity groups by the quarantine: Sales (percent) | All agricultural products: Number of farms (percent) | All agricultural products: Sales (percent)
3 (AR) | 0.5 | 0.6 | 13.7 | 1.3 | 0.1 |  | 14.3 | 1.9 | 100 | 100
3 (NC) | 3.0 | 2.1 | 17.8 | 1.1 | 0.3 | 0.0 | 21.0 | 3.3 | 100 | 100
3 (SC) | 4.7 | 28.1 | 14.5 | 2.6 | 0.7 | 0.1 | 19.9 | 30.8 | 100 | 100
18 (TN) | 5.7 | 24.4 | 16.7 | 1.7 | 0.4 | 0.1 | 22.8 | 26.2 | 100 | 100
27 (total) | 4.7 | 15.4 | 16.2 | 1.6 | 0.4 | 0.1 | 21.3 | 17.0 | 100 | 100
Source: USDA, NASS, 2002 Census of Agriculture, State and County Level Data. Table 2. Market Value of Agricultural Products Sold Including Direct and Organic in 2002.

Table 3 summarizes sales and number of farms in the 27 counties and their respective 4 States. The market value of all agricultural products sold in these counties was more than $1 billion, about 61 percent (or $615 million) of which were sales attributable to livestock, poultry, and animal products, with the remaining 39 percent (or $394 million) attributable to crop sales, including nursery and greenhouse crops. The market value of the 3 affected commodity groups sold in the 27 counties was about $172 million, or about 14 percent of the $1.2 billion in total sales for the 3 affected commodity groups in the 4 States. Within these States and in neighboring States, there is a large agricultural economy at risk due to the potential of imported fire ant to damage crops and injure livestock.

Table 3.—Sales and Number of Farms in the Newly Quarantined Counties and Their States
Number of counties | Sum of three affected commodity groups and State total: Number of farms | Sum of three affected commodity groups and State total: Sales ($1,000) | All crops, including nursery and greenhouse: Number of farms | All crops, including nursery and greenhouse: Sales ($1,000) | Livestock, poultry, and their products: Number of farms | Livestock, poultry, and their products: Sales ($1,000) | All agricultural products: Number of farms | All agricultural products: Sales ($1,000)
Arkansas:
3 | 417 | 4,461 | 738 | 79,256 | 1,868 | 151,925 | 2,923 | 231,180
Total AR | 6,287 | 81,986 | 12,995 | 1,620,384 | 30,956 | 3,330,014 | 47,483 | 4,950,397
North Carolina:
3 | 532 | 5,640 | 762 | 13,417 | 1,553 | 159,263 | 2,533 | 172,680
Total NC | 12,030 | 566,104 | 24,587 | 2,008,634 | 26,948 | 4,953,052 | 53,930 | 6,961,686
South Carolina:
3 | 547 | 20,749 | 785 | 33,071 | 1,207 | 34,338 | 2,751 | 67,409
Total SC | 6,131 | 244,090 | 7,869 | 593,245 | 10,133 | 896,505 | 24,541 | 1,489,750
Tennessee:
18 | 3,893 | 140,786 | 5,154 | 268,543 | 10,124 | 269,582 | 17,046 | 538,125
Total TN | 17,266 | 333,023 | 29,143 | 1,072,548 | 51,367 | 1,127,266 | 87,595 | 2,199,814
27 newly infested counties total | 5,389 | 171,636 | 7,439 | 394,287 | 14,752 | 615,108 | 25,253 | 1,009,394
Four States (AR, NC, SC, TN) total | 41,714 | 1,225,203 | 74,594 | 5,294,811 | 119,404 | 10,306,837 | 213,549 | 15,601,647
Source: USDA, NASS, 2002 Census of Agriculture, State and County Level Data. Table 2. Market Value of Agricultural Products Sold Including Direct and Organic in 2002.

According to Small Business Administration criteria, a business engaged in crop production (North American Industry Classification System [NAICS] Subsector 111) is considered to be a small entity if its annual receipts are not more than $750,000. A business engaged in support activities for agriculture and forestry (NAICS Subsector 115) is considered small if its annual receipts are not more than $6 million. Agricultural entities in the newly quarantined areas are predominantly, if not entirely, small entities.

The aforementioned three commodity groups, as well as farm equipment dealers, construction companies, and those who sell, process, or move regulated articles from and through quarantined areas, may be affected by this rule. Such operations will now be required to treat restricted articles before moving them interstate. Only regulated articles moved interstate outside of the quarantined areas will be affected. However, adverse economic effects of the rule on affected entities that move regulated articles interstate are mitigated by the availability of various treatments. In most cases these treatments permit the movement of regulated articles with only a small additional cost. For example, the treatment cost of an average shipment of nursery plants on a standard trailer truck ranges between 0.04 percent and 1 percent ⁴ of the value of the plants transported, given a treatment cost per shipment of around $200. The estimated annual compliance costs for these entities is small in comparison to the benefit gained through reduced human-assisted spread of imported fire ant to noninfested areas of the United States.

⁴ An average nursery plant (i.e., potted) costs between $2 and $50, so that the value of a load for a standard tractor trailer transporting up to 10,000 plants ranges between $20,000 and $500,000; $200/$20,000 = 1 percent, and $200/$500,000 = 0.04 percent.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.81-3, paragraph (e) is amended as follows:

a. Under the heading Arkansas, by adding, in alphabetical order, new entries for Lonoke and Yell Counties, and by revising the entry for Faulkner County to read as set forth below.

b. Under the heading North Carolina, by adding, in alphabetical order, new entries for Iredell, Lincoln, and Rutherford Counties, as set forth below.

c. By revising the entry for South Carolina to read as set forth below.

d. Under the heading Tennessee, by adding, in alphabetical order, new entries for Crockett, Morgan, and Warren Counties, and by revising the entries for Anderson, Bedford, Benton, Bledsoe, Blount, Carroll, Coffee, Cumberland, Grundy, Haywood, Hickman, Knox, Rutherford, Van Buren, and Williamson Counties to read as set forth below.

§ 301.81-3 Quarantined areas.

* * * * *

(e) * * *

* * * * *

Arkansas

* * * * *

Faulkner County. The entire county.

* * * * *

Lonoke County. The entire county.

* * * * *

Yell County. The entire county.

* * * * *

North Carolina

* * * * *

Iredell County. That portion of the county lying south of State Highway 150.

* * * * *

Lincoln County. That portion of the county lying east of State Highway 321.

* * * * *

Rutherford County. That portion of the county lying south of State Highway 74.

* * * * *

South Carolina

The entire State.

* * * * *

Tennessee

Anderson County. That portion of the county lying east and south of a line beginning at the intersection of the Roane/Anderson County line and Tennessee Highway 330; then northeast on Tennessee Highway 330 to Tennessee Highway 116; then north on Tennessee Highway 116 to Interstate 75; then southeast on Interstate 75 to the Anderson/Knox County line.

Bedford County. The entire county.

Benton County. The entire county.

Bledsoe County. The entire county.

Blount County. The entire county.

* * * * *

Carroll County. The entire county.

* * * * *

Coffee County. That portion of the county lying west and south of a line beginning at the intersection of the Cannon/Coffee County line and Tennessee Highway 53; then south on Tennessee Highway 53 to Riddle Road; then southeast on Riddle Road to Keele Road; then northeast on Keele Road to Tennessee Highway 55; then northeast on Tennessee Highway 55 to Swann Road; then east on Swann Road to Wiser Road; then north on Wiser Road to Rock Road; then east on Rock Road to Pleasant Knoll Road; then north on Pleasant Knoll Road to Marcrom Road; then east on Marcrom Road to the Coffee/Warren County line.

Crockett County. That portion of the county lying east of a line beginning at the intersection of the Haywood/Crockett County line and U.S. Highway 70A/79; then northeast on U.S. Highway 70A/79 to Tennessee Highway 88; then north on Tennessee Highway 88 to Tennessee Highway 54; then northeast on Tennessee Highway 54 to the Crockett/Gibson County line.

Cumberland County. That portion of the county lying southeast of a line beginning at the intersection of the White/Cumberland County line and U.S. Highway 70; then east on U.S. Highway 70 to Market Street (in Crab Orchard); then north on Market Street to Main Street; then west on Main Street to Chestnut Hill Road; then northeast on Chestnut Hill Road to Westchester Drive; then north on Westchester Drive to Peavine Road; then east on Peavine Road to Hebbertsburg Road; then northeast on Hebbertsburg Road to the Cumberland/Morgan County line.

* * * * *

Grundy County. The entire county.

* * * * *

Haywood County. That portion of the county lying southeast of Tennessee Highway 54.

* * * * *

Hickman County. The entire county.

* * * * *

Knox County. That portion of the county lying southwest of a line beginning at the intersection of the Union/Knox County line and Tennessee Highway 33; then south on Tennessee Highway 33 to the Tennessee River; then northeast along the Tennessee River to the French Broad River; then east along the French Broad River to the Knox/Sevier County line.

* * * * *

Morgan County. That portion of the county lying south of a line beginning at the intersection of the Cumberland/Morgan County line and Tennessee Highway 298; then northeast on Tennessee Highway 298 to Tennessee Highway 62; then southeast on Tennessee Highway 62 to the Morgan/Roane County line.

* * * * *

Rutherford County. The entire county.

* * * * *

Van Buren County. The entire county.

Warren County. That portion of the county lying southeast of a line beginning at the intersection of the Coffee/Warren County line and Marcrom Road; then east on Marcrom Road to Fred Hoover Road; then north on Fred Hoover Road to Tennessee Highway 287; then northwest on Tennessee Highway 287 to Vervilla Road; then northeast on Vervilla Road to Swan Mill Road; then east on Swan Mill Road to Grove Road; then southeast on Grove Road to Tennessee Highway 108/127; then northeast on Tennessee Highway 108/127 to the split between Tennessee Highway 108 and Tennessee Highway 127; then northeast on Tennessee Highway 127 to Tennessee Highway 56; then southeast on Tennessee Highway 56 to Fairview Road; then northeast on Fairview Road to Tennessee Highway 8; then southeast on Tennessee Highway 8 to Dark Hollow Road; then north on Dark Hollow Road to Tennessee Highway 30; then northeast on Tennessee Highway 30 to the Warren/Van Buren County line.

* * * * *

Williamson County. That portion of the county lying northeast of a line beginning at the intersection of the Davidson/Williamson County line and U.S. Highway 31; then southwest on U.S. Highway 31 to U.S. Highway Business 431; then southeast on U.S. Highway Business 431 to Mack Hatcher Parkway; then north on Mack Hatcher Parkway to South Royal Oaks Boulevard; then northeast on South Royal Oaks Boulevard to Tennessee Highway 96; then east on Tennessee Highway 96 to Clovercroft Road; then northeast on Clovercroft Road to Wilson Pike; then north on Wilson Pike to Clovercroft Road; then northeast on Clovercroft Road to Rocky Fork Road; then east on Rocky Fork Road to the Rutherford/Williamson County line. Also, that portion of the county enclosed by a line beginning at the intersection of the Maury/Williamson County line and Tennessee Highway 246; then north on Tennessee Highway 246 to Thompson Station Road West; then east on Thompson Station Road West to Thompson Station Road East; then east on Thompson Station Road East to Interstate 65; then south on Interstate 65 to the Williamson/Maury County line.

* * * * *

Done in Washington, DC, this 19th day of October 2007.
Kevin Shea,
Acting Administrator, Animal and Plant Health Inspection Service.

[FR Doc. E7-21003 Filed 10-24-07; 8:45 am]

BILLING CODE 3410-34-P